NATIONAL SCIENCE FOUNDATION

Advisory Committee for Small Business Industrial Innovation (SBIR); Notice of Meeting

In accordance with the Federal Advisory Committee Act (Pub. L. 92-463, as amended), the National Science Foundation announces the following meeting:

Name: Advisory Committee for Small Business Industrial Innovation (61).

Date and Time: May 1-2, 2000, 8:00 am-5:00 pm.

Type of Meeting: Open.

Place: Room 120, National Science Foundation, 4201 Wilson Boulevard, Arlington, VA 22230.

Contact Person: Cheryl Albus, Program Manager, (703) 306-1390, National Science Foundation, 4201 Wilson Boulevard, Arlington, VA 22230.

Minutes: May be obtained from the contact person listed above.

Purpose of Meeting: To provide advice and recommendations concerning research programs pertaining to the small business community.

Agenda: May 1, 2000, Room 120

8:00 am-8:30 am: Introductions.

8:30 am-9:00 am: Welcome.

9:00 am-12:00N: Past Year's Accomplishments; Issues.

12:00N-1:30 pm: Lunch.

1:30 pm-3:30 pm: Issues (continued).

3:30 pm-3:45 pm: Break.

3:45 pm-4:15 pm: Issues (continued).

4:15 pm-5:30 pm: Discussion.

5:30 pm: Adjourn.

May 2, 2000, Room 120

8:00 am-10:00 am: Preparation of Committee Report.

10:00 am-10:30 am: Break.

10:30 am-12:30 pm: Feedback from the Committee.

12:30 pm——.

Dated: April 19, 2000.
Karen J. York,
Committee Management Officer.

[FR Doc. 00-10125 Filed 4-21-00; 8:45 am]

BILLING CODE 7555-01-M